DEPARTMENT OF AGRICULTURE

Forest Service

Notice of Proposed New Fee Sites

AGENCY: Forest Service, Agriculture (USDA).

ACTION: Notice of proposed new fee sites.

SUMMARY: The Ozark-St. Francis National Forest in Arkansas is proposing to charge new fees at multiple recreation sites listed in SUPPLEMENTARY INFORMATION of this notice. Funds from fees would be used for operation, maintenance, and improvements of these recreation sites. Many sites recently have been reconstructed or amenities are being added to improve services and experiences. An analysis of nearby developed recreation sites with similar amenities shows the proposed fees are reasonable and typical of similar sites in the area.

DATES: If approved, the new fees would be implemented no earlier than six months following the publication of this notice in the Federal Register.

ADDRESSES: Ozark-St. Francis National Forest, 605 West Main St., Russellville, Arkansas 72801.

FOR FURTHER INFORMATION CONTACT: Robert Duggan, Recreation Program Manager at 479-964-7238 or Robert.duggan@usda.gov.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, a Special Recreation Permit for Pleasant Hill Shooting Range is proposed at $5 per day and $30 per year. In addition, this proposal would implement new fees at four Off-Highway Vehicle sites: Moccasin Gap, Mill Creek, Brock Creek, and Buckhorn are proposed at $10 per day per rider, $20 per 3-day per rider, and $75 per year per rider. A $5 day-use fee per vehicle at Gunner Pool and Sam's Throne Recreation Areas would be added to improve services and facilities. The full suite of Interagency passes would be honored.

New fees would provide increased visitor opportunities as well as increased staffing to address operations and maintenance needs and enhance customer service. Once public involvement is complete, these new fees will be reviewed by the Southern Region Recreation Resource Advisory Committee prior to a final decision and implementation.

Dated: April 1, 2022.
Sandra Watts,
Acting Associate Deputy Chief, National Forest System.

[FR Doc. 2022-07268 Filed 4-5-22; 8:45 am]

BILLING CODE 3411-15-P